FEDERAL COMMUNICATIONS COMMISSION

47 CFR Part 73

[DA 02-2814; MB Docket No. 02-330, RM-10588; MB Docket No. 02-331, RM-10589]

Radio Broadcasting Services; Jasper, AR, and Milford, UT

AGENCY: Federal Communications Commission.

ACTION: Proposed rule.

SUMMARY: The Audio Division requests comments on a petition filed by JEM Broadcasting Company, Inc. proposing the allotment of Channel 245A at Jasper, Arkansas, as the community's first local aural transmission service. Channel 245A can be allotted to Jasper in compliance with the Commission's minimum distance separation requirements at city reference coordinates. The coordinates for Channel 245A at Jasper are 36-00-29 North Latitude and 93-11-11 West Longitude. The Audio Division also requests comments on a petition filed by Larry Jackson proposing the allotment of Channel 288C2 at Milford, Utah, as the community's first local aural transmission service. Channel 288C2 can be allotted to Milford in compliance with the Commission's minimum distance separation requirements at city reference coordinates. The coordinates for Channel 288C2 at Milford are 38-23-49 North Latitude and 113-00-36 West Longitude.

DATES: Comments must be filed on or before December 16, 2002, and reply comments on or before December 31, 2002.

ADDRESSES: Federal Communications Commission, 445 Twelfth Street, SW., Washington, DC 20554. In addition to filing comments with the FCC, interested parties should serve the petitioner, his counsel, or consultant, as follows: JEM Broadcasting Company, Inc., c/o Elvis Moody, President, 101 Christian Lane, Bentonville, Arkansas 72712; and Larry Jackson, 7107 Bur Oak Ct. Apt. 1, Louisville, Kentucky 40291.

FOR FURTHER INFORMATION CONTACT: Rolanda F. Smith, Media Bureau, (202) 418-2180.

SUPPLEMENTARY INFORMATION: This is a synopsis of the Commission's Notice of Proposed Rule Making, MB Docket Nos. 02-330 and 02-331, adopted October 16, 2002, and released October 25, 2002. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC, 20554, telephone 202-863-2893, facsimile 202-863-2898, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Arkansas, is amended by adding Jasper, Channel 245A.

3. Section 73.202(b), the Table of FM Allotments under Utah, is amended by adding Milford, Channel 288C2.

Federal Communications Commission.
John A. Karousos,
Assistant Chief, Audio Division, Media Bureau.

[FR Doc. 02-29236 Filed 11-18-02; 8:45 am]

BILLING CODE 6712-01-P